ELECTION ASSISTANCE COMMISSION

Information Collection Activity; Proposed Collection; Comment Request

AGENCY: United States Election Assistance Commission (EAC).

ACTION: Notice.

SUMMARY: In compliance with section 3506(c)(2)(A) of the Paperwork Reduction Act of 1995, EAC announces the proposed extension of a public information collection and seeks public comment on the provisions thereof. comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received on or before Friday, February 25, 2005.

ADDRESSES: Written comments and recommendations on the proposed information collection should be sent to the Election Assistance Commission, 1225 New York Avenue, NW., Washington, DC 2005, ATTN: Mr. Brian Hancock or may be submitted by facsimile transmission at 202-566-3127.

FOR FURTHER INFORMATION CONTACT: To request more information on this proposed information collection or to obtain a copy of the proposal and associated collection instruments, please write to the above address, or call Mr. Brian Hancock or Ms. Juliet Thompson at (202) 566-3100.

Title and OMB Number: Voter Registration Survey; OMB Number 3265-0NEW.

Needs and Uses: The information collection requirement is necessary to meet a requirement of the National Voter Registration Act (NVRA) (42 U.S.C. 1973gg, et seq.). NVRA requires the EAC to collect information regarding voter registration following each Federal general election. In order to fulfill those requirements and to provide a complete report to Congress, EAC is seeking information relating to November 2, 2004 election.

Affected Public: State government.

Annual Burden Hours: 3,000 hours.

Number of Respondents: 55.

Responses Per Respondent: 1.

Average Burden Per Response: 54 hours.

Frequency: Biennially.

SUPPLEMENTARY INFORMATION:

Summary of Information Collection

The Help America Vote Act of 2002 (HAVA) created the Election Assistance Commission and enacted numerous provisions aimed at improving the administration of federal elections. In addition, HAVA gave EAC the responsibility for administering the NVRA. This survey seeks information relating to the November 2, 2004 election that will fulfill the requirements placed on EAC by the4 NVRA to collect and report on data related to voter registration. The following categories of information are requested on a county/local election jurisdiction and/or state-wide level:

Total Voter Registration

(a) Total number of registered voters (active and inactive) at the time of the close of registration for the 2002 Federal general election, (b) total number of registered voters (active and inactive) at the time of the close of polls for the 2004 Federal General Election (November 4, 2004), and (c) total number of registered voters (active and inactive) who were eligible to vote in the November 4, 2004 election.

Voter Registration Officials

(a) The local election official primarily responsible for registering voters, (b) all State or local government offices or agencies that conduct voter registration, (c) the location where voter registration forms are received, (d) total number of election jurisdictions conducting voter registration, and (e) total number of jurisdictions that provided information for this survey.

Voter Registration Applications

(a) Total number of voter registration applications received from all sources during the period from the close of registration for the November 2002 federal election until the close of registration for the November 2004 federal election, (b) total number of mail voter registration applications received during the period from the close of registration for the November 2002 federal election until the close of registration for the November 2004 federal election, (c) total number of voter registration applications received in person in the clerk or voter registrars' office during the period from the close of registration for the November 2002 federal election until the close of registration for the November 2004 federal election, (d) total number voter registration applications received from each voter registration agency during the period from the close of registration for the November 2002 federal election until the close of registration for the November 2004 Federal election, (e) total number of voter registration applications that were changes to address, name or party, (f) total number of voter registration applications that were duplicates of other valid voter registrations, (g) the manner in the which voter registration applications are transferred from other voter registration agencies to the official responsible for voter registration, and (h) which voter registration forms are accepted, including the Federal form, State form, and military applications as well as any restrictions on those applications such as paper weight, fax, electronic, etc.

Processing Voter Registration Applications

(a) How voter registration applications are maintained, (b) how the registration official checks for duplicate registrations, (c) the type of number used as a voter registration number, (d) whether applicants who are rejected are notified of the rejection and reason for rejection.

List Maintenance

(a) The number of removal notices (Section 8(d)(2) notices) sent between the close of registration for the November 2002 election and November 3, 2004, (b) the number of voters who were ultimately removed from the voter rolls between the close of registration for the November 2002 election and November 3, 2004, (c) the numbers of voters who were removed from the voter rolls between the close of registration for the November 2002 election and November 3, 2004 because of the death of the voter, (d) the number of voters who were removed from the voter rolls between the close of registration for the November 2002 election and November 3, 2004, due to failure to vote in two consecutive federal general elections, (e) the number of voters who were removed from the voter rolls between the close of registration for the November 2002 election and November 3, 2004 because the voter requested to be removed, (f) the number of voters who were removed from the voter rolls between the close of registration for the November 2002 election and November 3, 2004 for other reasons, (g) the number of confirmation notices that were mailed between the federal general election in 2002 and November 4, 2004, (h) the number of responses that were received to the confirmation notices, (i) the sources of data that are considered in performing list maintenance, (j) the process that is used to perform list maintenance, and (k) the way that each state treats voters who (1) have been convicted of a felony, (2) are serving a sentence of incarceration for conviction of a felony, and (3) are serving a term of probation following the conviction of a felony.

NVRA and HAVA Provisions

(a) Which states are subject to the National Voter Registration Act, (b) the number of states that have revised the state voter registration form to include the citizenship and age questions required by HAVA, (c) the manner in which each state treats applications where one or more of the HAVA required questions are not answered, (d) the number of states that have implemented the verification requirements of HAVA, (e) the manner in which each state verifies voter registration applications, and (f) the number of states that have implemented a statewide voter registration database.

Voter Registration Drives

(a) The number of states that allow outside groups to conduct voter registration drives and submit the voter registration applications and (b) how states that allow outside voter registration drives manage the number of applications given to the outside group and the number and timing of the return of those forms by the outside registration group.

Gracia M. Hillman,
Chair, U.S. Election Assistance Commission.

[FR Doc. 05-3309 Filed 2-18-05; 8:45 am]

BILLING CODE 6820-YN-M